DEPARTMENT OF JUSTICE

Notice of Lodging of Proposed Consent Decree Under the Resource Conservation and Recovery Act

On December 7, 2023, the Department of Justice lodged a proposed Consent Decree with the United States District Court for the Northern District of Illinois in the lawsuit entitled United States, Louisiana Department of Environmental Quality, and the State of Indiana v. Heritage-Crystal Clean, LLC, Civil Action No. 1:22-cv-00303.

The complaint filed in this action seeks civil penalties and injunctive relief for alleged violations of the Resource Conservation and Recovery Act, its implementing regulations, and related state law provisions, at five Heritage-Crystal Clean (HCC) facilities located in Shreveport, Indianapolis, Atlanta, and Denver as well as at a former facility in Fairless Hills, Pennsylvania. The complaint alleged that in the course of providing solvent-based parts washing services to numerous customers throughout the United States, HCC violated various hazardous waste management requirements by (1) transporting hazardous waste without required hazardous waste manifests, (2) storing hazardous waste at HCC facilities that do not have hazardous waste permits, (3) failing to make adequate hazardous waste determinations after mixing used solvents that HCC accepted from numerous different customers, (4) failing to comply with certain requirements for reducing air emissions from hazardous waste tanks and equipment, and (5) failing to maintain adequate secondary containment for certain hazardous waste tanks. The complaint also alleged that HCC violated certain requirements applicable to storage of used oil at HCC's Shreveport facility, and certain requirements governing management of solid wastes at HCC's Indianapolis facility (the “10th Street Facility”).

The proposed settlement prohibits HCC from treating, storing, or disposing of hazardous waste at any HCC facility that does not have a hazardous waste management permit. The proposed settlement also includes extensive measures to assure that HCC facilities do not manage used parts washing solvent that is subject to regulation as hazardous waste. These measures include: (1) screening new customers; (2) screening used parts washing solvents before HCC accepts such solvents for transport and management; (3) providing educational materials to certain parts washing customers; (4) testing of used parts washing solvent accepted by HCC to determine whether any used solvents accepted and managed by HCC are hazardous waste; (5) prompt removal from HCC facilities of any used parts washing solvents shown to be hazardous waste; (6) a prohibition on processing of certain used solvents, including by gravity separation, for the purpose of making the used solvent suitable for resale and re-use. The proposed settlement also provides for HCC to apply for a permit to store and treat hazardous waste at its 10th Street Facility. Pending issuance of a hazardous waste permit for the 10th Street Facility and construction of any waste management units authorized by such a permit, the proposed Consent Decree requires HCC to implement various interim measures at the 10th Street Facility, including various inspection requirements, and requirements to close open vents on certain tanks used to store used solvent at the 10th Street Facility. In addition, the proposed Consent Decree includes provisions for a third-party audit of HCC's implementation of Consent Decree requirements. Finally, the proposed Consent Decree provides for HCC to pay civil penalties totaling $1,162,500, with specified portions of the penalty amount allocated to the United States, the Louisiana Department of Environmental Quality, and the State of Indiana.

The publication of this notice opens a period for public comment on the proposed Consent Decree. Comments should be addressed to the Assistant Attorney General, Environment and Natural Resources Division, and should refer to United States, Louisiana Department of Environmental Quality, and the State of Indiana v. Heritage-Chrystal Clean, LLC D.J. Ref. No. 90-7-1-11889. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed Consent Decree may be examined and downloaded at this Justice Department website: http://www.justice.gov/enrd/consent-decrees. We will provide a paper copy of the proposed Consent Decree upon written request and payment of reproduction costs. Please mail your request and payment to: Consent Decree Library, U.S. DOJ—ENRD, P.O. Box 7611, Washington, DC 20044-7611.

Please enclose a check or money order for $33.50 (25 cents per page reproduction cost) payable to the United States Treasury.

Thomas Carroll,
Assistant Section Chief, Environmental Enforcement Section, Environment and Natural Resources Division.

[FR Doc. 2023-27319 Filed 12-12-23; 8:45 am]

BILLING CODE 4410-15-P